DEPARTMENT OF HEALTH AND HUMAN SERVICES

Health Resources and Services Administration

Program Announcement for Delta State Rural Development Network Grants

AGENCY: Health Resources and Services Administration, DHHS.

ACTION: Notice of availability of funds; request for applications.

SUMMARY: The Office of Rural Health Policy (ORHP) in the Health Resources and Services Administration (HRSA) announces that applications are being accepted for grants for Delta State Rural Development Networks (DSRDN). One grant will be awarded in each of the eight States designated by Congress for inclusion in the service area of the Delta Regional Authority: Alabama, Arkansas, Illinois, Kentucky, Louisiana, Missouri, Mississippi and Tennessee. Public Law 104-299, enacted in 1996, authorizes the Rural Health Outreach, Network Development and Telemedicine Grant program. The Consolidated Appropriations Act, 2001, Public Law 106-554 includes, in the Rural Health Outreach appropriation line, funding for a special initiative. ORHP will use these special initiative funds to award grants to rural networks in the eight Delta States. Grants will be for a three-year project period, with annual renewal dependant on availability of funds and evaluation of grantee performance.

Application Requests, Dates and Addresses: The application form and guidance for this Grant Program are available at the ORHP web site address at http://ruralhealth.hrsa.gov. Applicants may request a hard copy of these materials from the HRSA Grants Application Center (GAC) at 1815 North Fort Myer Drive, Suite 300, Arlington, VA 22209; telephone number 1-877-477-2123. The GAC email address is hrsagac@hrsa.gov.

In order to be considered for competition, an original and one copy of the applications for this grant program must be received by August 15, 2001. To be considered submitted on time applications must be OFFICIALLY POSTMARKED BY 11:59 P.M. August 14, 2001. Postmarked means Official Post Office cancellation mark, Federal Express Shipping Receipt Form, United States Parcel Company receipt or other carrier that Officially records the pick-up or drop-off time of a package. PRIVATE POSTAGE METER CANCELLED PACKAGES WILL NOT BE ACCEPTED UNLESS THE PACKAGE ARRIVES ON OR BEFORE THE DUE DATE.

Applications must be mailed or delivered to: HRSA Grants Application Center (GAC), 1815 North Fort Myer Drive, Suite 300, Arlington, VA 22209.

Applications postmarked after the deadline date or sent to any address other than the address above will be returned to the applicant and not reviewed.

Funds Available: ORHP expects to award $5,431,000 among the eight States identified by the Delta Regional Authority as being in the Delta. These States are Alabama, Arkansas, Illinois, Kentucky, Louisiana, Missouri, Mississippi and Tennessee. Approximate State allocations are expected to be as follows: Alabama $398, 000; Arkansas $991,000; Illinois $424,000; Kentucky 503,000; Louisiana $768,000; Missouri $742,000; Mississippi $1,193,000; Tennessee $503,000. There are 205 designated rural counties in these Delta States including 15 in Alabama, 38 in Arkansas, 16 in Illinois, 19 in Kentucky, 29 in Louisiana, 28 in Missouri, 41 in Mississippi and 19 in Tennessee. To determine the amount of funding each DSRDN will receive, ORHP will consider the following factors: (1) The number of rural Delta counties in each State, and (2) The extent to which the DSRDN grant applicant justifies the amount of funds requested. (For the list of the eligible counties see Appendix I.)

FOR FURTHER INFORMATION CONTACT: Questions concerning programmatic aspects of the DSRDN grants may be directed to Dr. Marcia Brand, Director of the Office of Rural Health Policy, at 301-443-0835, or by email at mbrand@hrsa.gov.

SUPPLEMENTARY INFORMATION: Program Objectives: DSRDN will work closely with State Offices of Rural Health and other stakeholders to publicize to eligible communities and organizations the opportunities available through the DSRDNs. ORHP expects DSRDNs to award subcontracts to help local providers and organizations form a culturally appropriate Rural Health Outreach Network covering each designated rural Delta County. Subcontract guidelines can be found in the Program Guide, which is part of the application materials. Such networks may, with the consent of the participating counties, be designed along prevailing service area boundaries rather than county lines. These locally controlled networks will receive funds to enhance network development, assess health needs, plan projects and seek funding, which will focus on improved access to primary health care to the medically underserved such as the under and uninsured. As a demonstration of community support, it is encouraged that the networks receive the endorsement of the county Chief Executive(s) for the geographic area to be served. These subcontracts should account for approximately two-thirds of the DSRDN's first year budget, or approximately $17,700 per eligible county.

Eligible Applicants: To be eligible to receive a grant through this program, an entity shall be a rural public or private not-for-profit entity that is or represents a network or potential network that includes three or more health care providers or other entities that provide or support the delivery of health care services. The lead applicant for each State must be based in one of the 205 identified rural Delta counties. Except for the lead applicant, other network members may be for-profit entities and may be located in a rural or urban area. The DSRDN must have the capacity and expertise to work with all the counties in the State. Examples of organizations that could work together to form a DSRDN network would be rural hospitals, universities, AHECs, Emergency Medical Services offices, community health centers, private providers, county councils, county health departments, mental health organizations, Faith-based and other organizations that will contribute significantly to goals of the network.

Evaluation Criteria: Reviewers will rank review and rank applications based upon the following criteria.

1. Ability to make staff reliably available in person in the rural Mississippi Delta Counties of the State to be served. (20 points)

2. Capacity to manage multiple subcontracts totaling several hundred thousand dollars. (15 points)

3. Organizational experience in rural health (e.g., working with rural health providers, addressing health care needs of rural communities). (15 points)

4. Demonstrated successful experience in developing and strengthening community-based organizations. (15 points)

5. Organizational experience working in rural counties in the Mississippi River Delta Region. (15 points)

6. Expertise in planning and implementing community health improvement projects. (10 points)

7. Demonstrated success in implementing rural community health improvement projects. (10 points)

Funding Preferences

As provided in the law a funding preference will be awarded to any qualified organization that can demonstrate substantial inclusion of any one of the following:

A. The project includes a majority of the health care providers serving in the area or region to be served by the network participants. (The applicant must document the number of health care providers in the service area or region and the percentage of those providers that will be involved in the project.)

B. The project includes any Federally qualified health centers, rural health clinics, and local public health departments serving the area or region. The involvement must be more than a referral relationship with other providers in the area. The entity must be a full and active member of the network. A letter of commitment must demonstrate the organization's roles, responsibilities, and contribution of resources to the project.

C. The project includes outpatient mental health providers serving in the area or region. (The applicant must identify the mental health providers in the area and demonstrate their level of participation in the project.)

D. Appropriate social service providers, such as agencies on aging, school systems, and providers under the Women, Infants and Children (WIC) program that are working to improve access to care and the coordination of health care services in the service area or region. (The applicant must identify the social service providers in the area and demonstrate their level of participation in the project.)

Applicants receiving the preference will be placed in a more competitive position among the applications that can be funded. Applications that do not receive a funding preference will be given full and equitable consideration during the review process. However, all applications that request and are eligible to receive a funding preference will be funded before applications in the funding line that do not have a funding preference.

To receive a funding preference, you must request it. Further, you must identify the type of preference for which you are eligible and demonstrate your eligibility in your application.

Requirements for Cost Sharing or Matching: None.

Executive Order 12372

This grant program has been determined to be a program which is subject to the provisions of Executive Order 12372 concerning intergovernmental review of Federal programs by appropriate health planning agencies as implemented by 45 CFR part 100. Executive Order 12372 allows States the option of setting up a system for reviewing applications from within their States for assistance under certain Federal programs. Applicants (other than federally recognized Indian tribal governments) should contact their State Single Point of Contact (SPOCs), a list of which will be included in the application kit, as early as possible to alert them to the prospective applications and receive any necessary instructions on the State process. All SPOC recommendations should be submitted to Larry Poole, Office of Grants Management, Bureau of Primary Health Care, 4350 East West Highway, 11th Floor, Bethesda, Maryland 20814, (301) 594-4260. The due date for State process recommendations is 60 days after the application deadline of August 15, 2001, for the Delta State Rural Development Network Program for competing applications. The granting agency does not guarantee to “accommodate or explain” State process recommendations it receives after that date. (See Part 148 of the PHS Grants Administration Manual, Intergovernmental Review of PHS Programs under Executive Order 12372, and 45 CFR part 100 for a description of the review process and requirements.)

Public Health System Impact Statement

This program is subject to the Public Health System Reporting Requirements. Reporting requirements have been approved by the Office of Management and Budget—#0937-0195. Under these requirements, the community-based nongovernmental applicant must prepare and submit a Public Health System Impact Statement (PHSIS). The PHSIS is intended to provide information to State and local health officials to keep them apprised of proposed health services grant applications submitted by community-based organizations within their jurisdictions.

Community-based non-governmental applicants are required to submit the following information to the head of the appropriate State and local health agencies in the area(s) to be impacted no later than the Federal application receipt due date:

a. A copy of the face page of the application (SF 424)

b. An abstract of the project not to exceed one page, which provides:

(1) A description of the population to be served

(2) A summary of the services to be provided

(3) A description of the coordination planned with the appropriate State or local health agencies.

OMB Catalog of Federal Domestic Assistance Number: 93.912C

Dated: July 3, 2001.
Elizabeth M. Duke,
Acting Administrator.

Appendix I—Rural Delta Counties Eligible for the Delta State Rural Development Network Grant Program

Alabama Counties (15)

Barbour, Bullock, Choctaw, Clarke, Dallas, Greene, Hale, Lowndes, Macon, Marengo, Perry, Pickens, Sumter, Washington and Wilcox.

Arkansas Counties (38)

Arkansas, Ashley, Baxter, Bradley, Calhoun, Chicot, Clay, Cleveland, Craighead, Cross, Dallas, Desha, Drew, Fulton, Grant, Greene, Independence, Izard, Jackson, Lawrence, Lee, Lincoln, Marion, Mississippi, Monroe, Ouachita, Phillips, Poinsett, Prairie, Randolph, St. Francis, Searcy, Sharp, Stone, Union, Van Buren, White, Woodruff

Illinois Counties (16)

Alexander, Franklin, Gallatin, Hamilton, Hardin, Jackson, Johnson, Massac, Perry, Pope, Pulaski, Randolph, Saline, Union, White, Williamson

Kentucky Counties (19)

Ballard, Caldwell, Calloway, Carlisle, Crittenden, Fulton, Graves, Hickman, Hopkins, Livingston, Lyon, Marshall, McCracken, McLean, Muhlenberg, Todd, Trigg, Union, Webster

Louisiana Parishes (29)

Allen, Assumption, Avoyelles, Caldwell, Catahoula, Concordia, E. Carroll, E. Feliciana, Evangeline, Franklin, Grant, Iberia, Iberville, Jackson, La Salle, Lincoln, Madison, Morehouse, Natchitoches, Pointe Coupee, Richland, St. Helena, Tangipahoa, Tensas, Union, Washington, W. Carroll, W. Feliciana, Winn

Mississippi Counties (41)

Adams, Amite, Attala, Benton, Bolivar, Carroll, Claiborne, Coahoma, Copiah, Covington, Franklin, Grenada, Holmes, Humphreys, Issaquena, Jefferson, Jefferson Davis, Lafayette, Lawrence, Leflore, Lincoln, Marion, Marshall, Montgomery, Panola, Pike, Quitman, Sharkey, Simpson, Sunflower, Tallahatchie, Tate, Tippah, Tunica, Union, Walthall, Warren, Washington, Wilkinson, Yalobusha, Yazoo

Missouri Counties (28)

Bollinger, Butler, Cape Girardeau, Carter, Dent, Douglas, Dunklin, Howell, Iron, Madison, Mississippi, New Madrid, Oregon, Ozark, Pemiscott, Perry, Phelps, Reynolds, Ripley, Ste. Genevieve, St. Francois, Scott, Shannon, Stoddard, Texas, Washington, Wayne, Wright

Tennessee Counties (19)

Benton, Carroll, Chester, Crockett, Decatur, Dyer, Fayette, Gibson, Hardeman, Hardin, Haywood, Henderson, Henry, Lake, Lauderdale, McNairy, Madison, Obion, Weakley

[FR Doc. 01-17979 Filed 7-17-01; 8:45 am]

BILLING CODE 4165-15-P